DEPARTMENT OF DEFENSE

Department of the Air Force

32 CFR Part 901

RIN 0701-AA58

Appointment to the United States Air Force Academy

AGENCY: Department of the Air Force, Department of Defense.

ACTION: Withdrawal of proposed rule.

SUMMARY: The Department of the Air Force had proposed to revise its regulation on processing nominations and appointments to the United States Air Force Academy. The proposed revision was never finally coordinated and is no longer current.

DATES: The proposed rule published on December 1, 1997 at 62 FR 63485 is withdrawn as of March 28, 2002.

FOR FURTHER INFORMATION CONTACT: Colonel James W. Spencer, (719) 333-2251.

Pamela D. Fitzgerald,
Air Force Federal Register Liaison Officer.

[FR Doc. 02-6340 Filed 3-15-02; 8:45 am]

BILLING CODE 5001-05-P